DEPARTMENT OF HOUSING AND URBAN DEVELOPMENT

[Docket Nos. FR-4340-FA-12; FR-4410-FA-15; and FR-4560-FA-20]

Announcement of Funding Awards Fair Housing Initiatives Program Fiscal Years 1998, 1999, 2000

AGENCY: Office of the Assistant Secretary for Fair Housing and Equal Opportunity, HUD.

ACTION: Announcement of funding awards.

SUMMARY: In accordance with section 102(a)(4)(C) of the Department of Housing and Urban Development Reform Act of 1989, this document notifies the public of the fiscal years 1998, 1999, 2000 funding awards made under the Fair Housing Initiatives Program (FHIP). The purpose of this document is to announce the names and addresses of the award winners and the amount of the awards to be used to strengthen the Department's enforcement of the Fair Housing Act and to further fair housing.

FOR FURTHER INFORMATION CONTACT: Lauretta Dixon, Director, FHIP/FHAP Support Division, Office of Programs, Room 5230, 451 Seventh Street, SW., Washington, DC 20410. Telephone number (202) 708-2215 (this is not a toll-free number). A telecommunications device (TTY) for hearing and speech impaired persons is available at 1-800-290-1617 (this is a toll-free number).

SUPPLEMENTARY INFORMATION: Title VIII of the Civil Rights Act of 1968, as amended, 42 U.S.C. 3601-19 (the Fair Housing Act) charges the Secretary of Housing and Urban Development with responsibility to accept and investigate complaints alleging discrimination based on race, color, religion, sex, handicap, familial status or national origin in the sale, rental, or financing of most housing. In addition, the Fair Housing Act directs the Secretary to coordinate with State and local agencies administering fair housing laws and to cooperate with and render technical assistance to public or private entities carrying out programs to prevent and eliminate discriminatory housing practices.

Section 561 of the Housing and Community Development Act of 1987, 42 U.S.C. 3616 note, established the FHIP to strengthen the Department's enforcement of the Fair Housing Act and to further fair housing. This program assists projects and activities designed to enhance compliance with the Fair Housing Act and substantially equivalent State and local fair housing laws. Implementing regulations are found at 24 CFR part 125.

The FHIP has four funding categories: The Administrative Enforcement Initiative (AEI), the Education and Outreach Initiative (EOI), the Private Enforcement Initiative (PEI) and the Fair Housing Organizations Initiative (FHOI). This Notice announces awards made, primarily, under the EOI, the PEI and the FHOI.

The Department announced in the Federal Register on March 31, 1998 (63 FR 15535) the availability of $11,500,000 and on April 30, 1998 (63 FR 23969) the availability of $3,500,000. Both of these amounts came from the $15,000,000 appropriation to be utilized for the Fair Housing Initiatives Program in 1998. Under the first Super Notice of Funding Availability (SuperNOFA) for 1998, funding was made available for projects and activities designed to enforce and enhance compliance with the Fair Housing Act through the PEI, EOI, and FHOI. Under the second SuperNOFA for 1998, funding was made available for projects and activities under the National Education and Outreach Initiative. This Notice announces awards of approximately $15,000,000 to 50 organizations that submitted applications under both SuperNOFAs for FY 1998.

Additionally, the Department announced in the Federal Register on February 26, 1999 (64 FR 9677) the availability of $15,000,000 from the Fiscal Year 1999 appropriation of $23,500,000 to be utilized for three Initiatives (PEI, EOI, and FHOI) under the FHIP. The remaining $8,500,000 was made available for separate Requests for Proposals. This Notice was amended on April 27, 1999 (64 FR 22634) to extend the application due date from April 27, 1999 to June 30, 1999, and to make certain modifications. A second amendment was issued on June 30, 1999 (64 FR 35175) to advise of certain additional modifications in the FHIP NOFA. This Notice announces awards to 62 organizations for Fiscal Year 1999, including the National Housing Discrimination Audit that was awarded to the Urban Institute for approximately $7,360,000.

Finally, the Department announced in the Federal Register on February 24, 2000 (65 FR 9485), the availability of $18,000,000 of the Fiscal Year 2000 appropriation of $24 million, to be utilized for the Fair Housing Initiatives Program with $6 million designated to the National Housing Discrimination Audit. This Notice announces awards to 65 organizations that submitted applications under the FY 2000 SuperNOFA for FHIP, including the award to the Urban Institute of the $6,000,000 for the National Housing Discrimination Audit. Also, the FY 2000 application of the Leadership Conference Education Fund was awarded funding of $1,000,000 out of FY 1999 funds. No applications were submitted under the Model Codes Partnership Component for FY 2000.

The Catalog of Federal Domestic Assistance Numbers for the Fair Housing Initiatives Program are 14.408, 14.409, 14.410 and 14.413.

The Department reviewed, evaluated and scored the applications received based on the criteria in the fiscal years 1998, 1999, and 2000 SuperNOFAs. As a result, HUD has funded the applications announced in Appendices A, B, and C, and in accordance with section 102(a)(4)(C) of the Department of Housing and Urban Development Reform Act of 1989 (103 Stat. 1987, 42 U.S.C. 3545), the Department is hereby publishing details concerning the recipients of funding awards in Appendices A, B, and C of this document.

Dated: August 29, 2001.
Floyd O. May,
Deputy Assistant Secretary for Operations and Management.

Appendix A

FY 1998 Fair Housing Initiatives Program Awards
Applicant name and address | Contact name and phone number | Region | Award amount
National Education and Outreach Initiative—Nationwide Education Project
Consumer Action, 717 Market Street, Suite 310, San Francisco CA 94103 | Ken McEldowney (415) 777-9648 | 9 | $1,999,711.00
National Education and Outreach Initiative—Community Tensions Project
Leadership Conference Education Fund, 1629 K Street, NW, Washington DC 20006 | Karen McGill Lawson (202) 466-3434 | 3 | 1,499,931.00
Fair Housing Organizations Initiative—Establishing New Organizations Component
National Fair Housing Alliance, 1212 New York Avenue, NW, Suite 530, Washington DC 20005 | Shanna Smith (202) 898-1661 | 3 | 399,989.00
Fair Housing Organizations Initiative—Continuing Development Component
Arizona Center for Disability Law, 3839 North Third Street, #209, Phoenix AZ 85012 | Leslie Cohen (520) 327-9547 | 9 | 200,000.00
Judge David L. Bazelon Center for Mental Health, 1101 15th Street, NW, Suite 1212, Washington DC 20005 | Robert Bernstein (202) 467-5730 | 3 | 93,259.00
Memphis Area Legal Services, 109 N. Main, Suite 200, Memphis TN 38103-5013 | Webb Brewer (901) 523-8822 | 4 | 124,618.00
Mobile Fair Housing Center, Inc., P.O. Box 1351, Mobile AL 36633 | Nancy Bunin (334) 433-8070 | 4 | $199,287.00
Oregon Advocacy Center, 20 SW Fifth Ave., 5th Floor, Portland, OR 97204-1428 | Robert Joondaph (503) 243-2081 | 10 | 182,847.00
Private Enforcement Initiative—General Component
Access Living of Metropolitan Chicago, 310 South Peoria, Suite 201, Chicago IL 60607 | Renee David Luna (312) 226-5900 | 5 | 350,000.00
Asian Americans for Equality, Inc., 111 Division Street, New York NY 10002 | Margaret Chin (212) 964-6023 | 2 | 213,626.00
Community Legal Services, Inc., 2 West Santa Clara Street, San Jose, CA 95109-1840 | Tamara Dahn (408) 283-3844 | 9 | 350,000.00
Fair Housing Center of Metro. Detroit, 1249 Washington Blvd., #1312, Detroit MI 48226 | Clifford Schrupp (313) 963-1274 | 5 | 347,861.00
Fair Housing Council of Northern New Jersey, 131 Main Street, Hackensack NJ 07601 | Lee Porter (201) 489-3552 | 2 | 350,000.00
Fair Housing Council of Riverside County, Inc., 3600 Lime Street, Suite 613, Riverside CA 92501 | Rose Mayes (909) 682-6581 | 9 | 202,357.00
Fair Housing Council of San Gabriel Valley, 1020 N. Fair Oaks Avenue, Pasadena CA 91103 | Frances Espinoza (626) 791-0211 | 9 | 291,850.00
Greater New Orleans F.H. Action Center, Inc., 938 LaFayette Street, Suite 413, New Orleans LA 70113 | Stacy Seicshnaydre (504) 596-2100 | 6 | 350,000.00
Housing Opportunities Made Equal of Richmond, Inc., 1218 West Cary Street, Richmond VA 23220 | Constance Chamberlin (804) 354-0641, (804) 354-0641 | 3 | 350,000.00
John Marshall Law School, The, 315 S. Plymouth Court, Chicago IL 60604 | Robert Johnson (312) 987-1429 | 5 | 349,972.00
Kansas City Fair Housing Center, 3033 Prospect Avenue, Kansas City MO 64128 | Thomas Randolph (816) 923-1788 | 7 | 350,000.00
Lexington F.H. Council, P.O. Box 12217, Lexington KY 40581 | Mae Cleveland (606) 255-3247 | 4 | 349,995.00
Metro Fair Housing Services, Inc., P.O. Box 5467, 1083 Austin Avenue, NE, Atlanta GA 30307 | Robert Shifalo (404) 221-0874 | 4 | 277,000.00
Montana Fair Housing, Inc., 904 A Kensington Avenue, Missoula MT 59801 | Susan Fifield (406) 542-2611 | 8 | 350,000.00
National Fair Housing Alliance, 1212 New York Avenue, NW, Suite 530, Washington DC 20005 | Shanna Smith (202) 898-1661 | 3 | 399,989.00
Nevada Fair Housing Center, Inc., 2725 E. Desert Inn Road, Suite 180, Las Vegas NV 89121 | Gail Burks (702) 731-6095 x113 | 9 | 204,679.00
Newsed Community Development Corporation, 1029 Santa Fe Drive, Denver CO 80204 | Kathie Cheever (303) 534-8324 | 8 | 305,158.00
North Carolina Fair Housing Center, P.O. Box 28958, Raleigh NC 27611 | Stella Adams (919) 856-2166 | 4 | 348,557.00
Northwest Fair Housing Alliance, 1613 W. Gardner Avenue, Spokane WA 99201 | Florence Brassier, (509) 325-2665 | 10 | 350,000.00
Northwest Indiana Open Housing Center, Inc., 650 South Lake Smith, Gary IN 46403 | Constance Mack-Ward (219) 938-3910 | 5 | 218,366.00
Open Housing Center, Inc., 594 Broadway, Suite 608, New York NY 10012 | Sylvia Kramer (212) 941-6101 | 2 | 350,000.00
Reading-Berks Human Relation Council, 602-04 Court Street, Reading PA 19601 | Steven McCracken (610) 375-8852 | 3 | 160,000.00
San Antonio Fair Housing Council, Inc., 4414 Centerview Drive, Suite 170, San Antonio TX 78228 | L.L. Lewis-Miles (210) 733-3247 | 6 | 350,000.00
Sentinel Fair Housing, 1611 Telegraph Avenue, Suite 1410, Oakland CA 95612 | Maria Breed (510) 836-2687 | 9 | 349,899.00
Southern Minnesota Regional Legal Services, 700 Minnesota Building, 46 East Fourth Street, St. Paul MN 55101 | Bruce Beneke (612) 228-9823 | 5 | 337,750.00
Tenants' Action Group of Philadelphia, 21 South 12th Street, 12th Floor, Philadelphia PA 19107 | Elizabeth Hersh (215) 575-0707 | 3 | 350,000.00
Tennessee Fair Housing Council, 719 Thompson Lane, Suite 200, Nashville TN 37204 | Tracey McCartney (383) 383-6155 | 4 | 349,875.00
Private Enforcement Initiative—Joint Enforcement Program Component
Fair Housing of Marin, Inc., 615 B Street, San Rafael CA 94901 | Nancy B. Kenyon (415) 457-5025 | 9 | 297,485.00
Fair Housing Opportunities of NW Ohio, Inc., 2116 Madison Avenue, Toledo OH 43624-1131 | Lisa Rice Coleman (419) 243-6163 | 5 | 300,000.00
Housing Discrimination Project, Inc., 57 Suffolk Street, Holyoke MA 01040 | Erin Kemple (413) 539-9796 | 1 | 243,430.00
Public Interest Law Center of Philadelphia, 125 South 9th Street, Suite 700, Philadelphia PA 19107 | Michael Churchill (215) 627-7100 | 3 | 300,000.00
Education and Outreach Initiative—Regional/Local/Community-Based Component
Austin Tenants' Council, Inc., 1619 East Cesar Chavez, Austin TX 78702 | Katherine Stark (512) 474-7007 | 6 | 93,999.00
Billings Community Housing Resource Board, 1440 Lewis Avenue, Billings MT 59102 | Janet Ludwig (406) 656-8688 | 8 | 75,685.00
California Rural Legal, 631 Howard Street, Suite 300, San Francisco CA 94105 | Jose Padilla (415) 777-2752 | 9 | 100,000.00
Fair Housing Agency of Alabama, Inc., The, 1111 Beltline Highway, Suite 109, Mobile AL 36606 | Enrique Larrion Lang (334) 471-9333 | 4 | 92,787.00
Fair Housing Council of Fresno County, 2014 Tulare Street, Suite 413, Fresno CA 93721 | M. J. Borelli (209) 498-6174 | 9 | 100,000.00
Greater Upstate Law Project, Inc., 80 St. Paul Street, Suite 660, Rochester NY 14604 | Steven Brown (716) 454-6500 | 2 | 80,180.00
Hidalgo County, TX Council, 100 East Cano, 2nd Floor, Edinburg TX 78539 | Jose Eloy Pulido (956) 318-2619 | 6 | 88,488.00
Latinos United, 36 S. Wabash, Suite 1226, Chicago IL 60603 | Carlos DeJesus (312) 782-7500 | 5 | 100,000.00
Metro St. Louis Equal Housing Opportunity Council, 1027 South Vandeventer Avenue, 4th Floor, St. Louis MO 63110 | Browen Zwirmer (314) 534-5800, (314) 534-5800 | 7 | 71,282.00
St. Clair County, 19 Public Square, Suite 200, Belleville IL 62220 | Thelma Chalmers (618) 277-6790 | 5 | 99,994.00
Winston-Salem Human Relations Commission, 2301 N. Patterson, P.O. Box 2511, Winston-Salem NC 27105 | Eugene Williams (336) 727-2429 | 4 | 100,000.00

Appendix B

FY 1999 Fair Housing Initiatives Program Awards
Applicant name and address | Contact name and phone number | Region | Award amount
National Education and Outreach Initiative—Best Practices Component
The Equal Rights Center/Fair Housing Partnership, 1212 New York Avenue, NW, Suite 500, Washington DC 20005 | Veralee Leban (202) 289-5360 | 3 | $225,000.00
National Community Reinvestment Coalition, 733 15th Street, NW Suite 540, Washington DC 20005 | Janice Shields (202) 628-8866 | 3 | 225,000.00
Fair Housing Organizations Initiative—Establishing new Organizations Component
Montana Fair Housing, Inc., 904 A Kensington Avenue, Missoula MT 59801 | Susan Fifield (406) 542-2611 | 8 | 400,000.00
West Tennessee Legal Services, Inc., 210 West Main Street, Jackson TN 38302 | Carol Gish (901) 426-1309 | 4 | 400,000.00
Fair Housing Organizations Initiative—Continuing Development Component
Asian Americans for Equality Fair Hsg. Center, 40-34 Main Street, 2nd Floor, Flushing NY 11354 | Margaret Chin (718) 539-7290 | 2 | 200,000.00
Nevada Fair Housing Center, Inc., 2725 E. Desert Inn Road, Las Vegas NV 89121 | Gail Burks (702) 731-6095 | 9 | 194,798.00
Private Enforcement Initiative—General Component
Arkansas Fair Housing Council, The, 708 Clinton St., Suite 111, Arkadelphia AR 71923 | Dan Pless (870) 245-3855 | 6 | 298,578.00
Austin Tenants' Council, Inc., 1619 E. Cesar Chavez Street, Austin TX 78702 | Katherine Stark (512) 474-5444 | 6 | 299,943.00
Chicago Lawyers Committee for Civil Rights, 100 North Lassie Street Suite 60, Chicago IL 60602 | Galena Henry (312) 630-9744 | 5 | 284,460.00
Community Health Law Project, 185 Valley Street, South Orange NJ 07079 | Harold Garwin (973) 275-1175 | 2 | 300,000.00
Connecticut Fair Housing Center, Inc., 221 Main Street, 2nd Floor, Hartford CT 06106 | Nancy Downing (860) 247-4400 | 1 | 300,000.00
Fair Housing Council of CNY, Inc., 327 W. Fayette Street, Syracuse NY 13202 | Merrilee Witherell (315) 471-0420 | 2 | 293,441.00
The Equal Rights Center, 1212 New York Avenue, NW, Washington DC 20005 | Veralee Leban (202) 289-5360 | 3 | 300,000.00
Fair Housing Council of Suburban Philadelphia, 225 South Chester Road, Swarthmore PA 19081 | James Berry (610) 604-4411 | 3 | 300,000.00
Fair Housing Institute, 11925 Wilshire Blvd., Suite 308, Los Angeles CA 90025 | Ruth Seroussi (310) 312-4835 | 9 | 295,076.00
Fair Housing of Marin, 615 B Street, San Rafael CA 94901 | Nancy Kenyon (415) 457-5025 | 9 | 298,172.00
Fair Housing Partnership of Gtr. Pittsburgh, 7 Wood Street, Suite 602, Pittsburgh PA 15222 | Andrea Blinn (412) 391-2535 | 3 | 300,000.00
HOPE Fair Housing Center, 2100 Manchester Road, Wheaton IL 60187 | Bernard Kleina (630) 690-6500 | 5 | 300,000.00
Housing Discrimination Project, Inc., 57 Suffolk Street, Holyoke MA 01040 | Erin Kemple (413) 539-9796 | 1 | 298,472.00
Housing for All, Metro Denver Fair Housing Center, 2855 Tremont Place, Suite 205, Denver CO 80205 | Donna Hilton (303) 296-6949 | 8 | 297,526.00
Housing Opportunities Made Equal, Inc., 700 Main Street, Buffalo NY 14202 | Scott Gahl (716) 854-1400 | 2 | 299,000.00
Housing Opportunities Project for Excellence, 18441 NW 2nd Avenue, Suite 2, Miami FL 33169 | William Thompson (305) 571-8522 | 4 | 300,000.00
Interfaith Housing Center of the Northern Suburbs, 650 Lincoln Avenue, Winnetka IL 60093 | Gail Schechner (847) 501-5760 | 5 | 300,000.00
Jacksonville Area Legal Aid, Inc., 126 West Adams Street, 7th Floor, Jacksonville FL 32202 | Michael Figgins (904) 356-8371 | 4 | 299,987.00
Legal Aid of Western Missouri, 1005 Grand Blvd., Suite 600, Kansas City MO 64106 | Richard Haliburton (816) 474-6750 | 7 | 98,006.00
Legal Aid Society of Albuquerque, 121 Tijeras NE, Suite 3100, Albuquerque NM 87125 | Juan Gonzales (505) 243-7871 | 6 | 200,000.00
Legal Aid Society of Minneapolis, 430 1st Avenue, North, Minneapolis MN 55401 | Roger Cobb (612) 334-5785, | 5 | 300,000.00
Metropolitan Milwaukee Fair Housing Council, 600 East Mason Street, Suite 40, Milwaukee WI 53202 | William Tisdale (414) 278-1240 | 5 | 598,260.00
Metropolitan St. Louis Equal Housing Oppt. Council, 1027 S. Vandventer Ave., St. Louis MO 63110 | Bronwen Zwimer (314) 534-5800, (314) 534-5800 | 7 | 299,999.00
Metropolitan Strategy Group Education Fund, 3130 Meyfield Road, W207, Cleveland Heights OH 44118 | Charles Bromley (216) 371-4285 | 5 | 600,000.00
Monroe County Legal Assistance Corp., 80 St. Paul St, Suite 700, Rochester NY 14604 | LeAnne Hart (716) 325-2520 | 2 | 382,070.00
New Hampshire Legal Assistance, 1361 Elm Street, Suite 307, Manchester NH 03101 | Karen Rosenberg (603) 669-4966 | 1 | 299,791.00
Protection and Advocacy Systems, Inc., 1720 Louisiana Blvd. N.E., Albuquerque NM 87110 | Jim Jackson (505) 256-3100 | 6 | 270,470.00
Southern Arizona Housing Center, 2030 East Broadway, Suite 101, Tucson AZ 85719 | Richard Rey (520) 798-1568 | 9 | 585,795.00
West Tennessee Legal Services, Inc., 210 West Main Street, Jackson TN 38302 | Carol Gish (901) 426-1309 | 4 | 300,000.00
Education and Outreach Initiative—Regional/Local/Community-Based Component
Access Living of Metropolitan Chicago, 310 S. Peoria, Ste. 201, Chicago IL 60607 | James Charlton (312) 226-5900 | 5 | 125,000.00
Alaska State Commission For Human Rights, 800 A Street, Suite 204, Anchorage AK 99501 | Paula Haley (907) 276-7474 | 10 | 59,246.00
Arizona Center for Disability Law, 3839 North 3rd Street, Suite 209, Phoenix AZ 85012 | Leslie Cohen (520) 327-9547 | 9 | 150,000.00
CCCS of Central Valley, Inc., 4969 E. McKinley Ave., Suite 1, Fresno CA 93727 | Jacqueline Williams (559) 454-1700 | 9 | 150,000.00
Central Alabama Fair Housing Center, 207 Montgomery Street, Suite 725, Montgomery AL 36104 | Faith Cooper (334) 263-4663 | 4 | 300,000.00
City of Anderson, South Carolina, 401 South Main Street, Anderson SC 29624 | Erica Craft (864) 231-2242 | 4 | 134,093.00
City of Savannah, P.O. Box 1027, Savannah GA 31402 | Robin Gunn (912) 651-6520 | 4 | 131,846.00
Coalition of Responsible Disabled, 612 N. Maple Street, Spokane WA 99201 | Linda Schappals-McClain (509) 326-6355 | 10 | 150,000.00
Colorado Coalition for the Homeless, 2100 Broadway, Denver CO 80205 | Tracy Eilers (303) 297-1034 | 8 | 45,570.00
Community Reinvestment Association of N.C., P.O. Box 28958, Raleigh NC 27611 | Peter Skillern (919) 856-2143 | 4 | 299,911.00
DNA-Peoples Legal Service, Inc., P.O. Box 306, Window Rock AZ 86515 | Theresa Yaman (505) 368-3217 | 9 | 29,285.00
Fort Worth Human Relations Commision, 1000 Throckmorton, Fort Worth TX 76102 | Vanessa Ruiz-Boling (817) 871-7534 | 6 | 241,292.00
HOME Headquarters, 120 E. Jefferson Street, Syracuse NY 13202 | Kerry Quaglia (315) 474-1939 | 2 | 88,745.00
Housing Council in the Monroe County Area, 183 East Main Street, Rochester NY 14604 | Anne Peterson (716) 546-3700 | 2 | 130,000.00
Housing Education & Economic Development, Inc., 3405 Medgar Evers Blvd., Jackson MS 39213 | Charles Harris (601) 981-1960 | 4 | 183,813.00
Iowa Civil Rights Commission, 211 East Maple, Des Moines IA 50309 | Diann Wilder-Tomlin (515) 281-8084 | 7 | 69,279.00
Legal Services of Northern California, 517 12th Street, Sacramento CA 95814 | Lorili Ostman (916) 551-2117 | 9 | 131,613.00
LINK, Inc., 2401 E. 13th Street, Hays KS 67601 | Robin Trooper (785) 625-6942 | 7 | 149,436.00
Mental Health Advocacy, 1336 Wilshire Blvd., Suite 102, Los Angeles CA 90017 | James Preis (213) 484-1628 | 9 | 77,000.00
Minnesota Fair Housing Center, 2469 University Ave., West, St. Paul MN 55114 | Lawrence Winans (651) 917-8869 | 5 | 299,522.00
Mobile Fair Housing Center, Inc., P.O. Box 1351, Mobile AL 36633 | Tracy McCracken-Cherry (334-433-8070) | 4 | 299,440.00
NCRIMS, 1714 Jefferson Street, Napa CA 94559 | Jean Barston (707) 253-2700 | 9 | 84,861.00
Neighborhood Economic Development Advocacy, 126 University Place, 5th Floor, New York NY 10003 | Sarah Ludwig (212) 633-8585 | 2 | 286,270.00
Neighborhood Housing Services of the Inland, Empire, Inc., 1390 North D Street, San Bernardino CA 92405 | Edward Moncrief (909) 884-6891 | 9 | 100,000.00
Three Rivers Legal Services, 111 Southwest First Street, Gainsville FL 32601 | Allison Thompson,(352) 372-0519 | 4 | 185,265.00
Utah State University, Logan UT 84322 2949 University Blvd | Leona Hawks, 435-797-1529 | 9 | I7,997.00
National Housing Discrimination Audit Project
Urban Institute, 2100 M Street, N.W., Washington DC 20037 | Margery Turner, 435-797-1529 | 3 | 7,359,901.00

Appendix C

FY 2000 Fair Housing Initiatives Program Awards
Applicant name | Contact person | Region | Award amount
Education and Outreach Initiative/Disability Component
Aids Legal Referral Panel, 582 Market #912, San Francisco CA 94104-5310 | Bill Hirsh, 415-248-3974 | 9 | $65,194.00
Central Florida Legal Services, Inc., 128-A Orange Ave., Daytona Beach FL 32114-4310 | William Abbuehl, 904-255-6573 | 4 | 150,000.00
Housing Consortium for Disabled Individuals, 4040 Market St. STE 300, Philadelphia PA 19104 | Lee Capkin, 215-895-5694 | 3 | 149,998.00
Independent Resources, Two Fox Point Centre 6 Denny Road, Suite 205, Wilmington DE 19809 | Linda Williams, 302-735-4599 | 3 | 85,097.00
Vermont Center for Independent Living, 11 East State St., Montpelier VT 05602 | Deborah Baker 802-229-0501 | 1 | 149,714.00
Volar Center For Independent Living, 8929 Viscount Suite 101, El Paso TX 79925 | Luis Chew, 915-591-0800 | 6 | 149,995.00
Education and Outreach Initiative/Fair Housing Partnership Component
Asian Americans For Equality Fair Housing Center, Inc., 40-34 Main St., 2nd. floor, Flushing NY 11354 | Margaret Chin, 718-539-7290 | 2 | 250,000.00
Austin Tenants Council, 1619 E. Cesar Chavez St., Austin TX 78702 | Katherine Stark, 512-474-5444 | 6 | 220,641.00
Fair Housing Center of Greater Palm Beach, Inc., 1300 W Lantana Rd. Ste, 100, Lantana FL 33462 | Vince Larkins, 561-533-8717 | 4 | 150,000.00
Fair Housing Center of South Puget Sound, 625 Commerce, Suite 430, Tacoma WA 98402 | Lauren Walker, 253-572-4347 | 10 | 250,000.00
Legal Aid Society of Palm Beach County Fair Housing, 423 Fern Street, Ste. 200, West Palm FL 33401 | Robert Bertisch, 561-655-8944 | 4 | 116,530.06
North Carolina Fair Housing Center, P.O. Box 1929, Durham NC 27702 | Stella Adams, 919-667-0888 | 4 | 233,555.74
Northwest Indiana Open Housing Center, Inc., 650 South Lake St., Gary IN 46403 | Constance Mack-Ward, 219-938-3910 | 5 | 150,000.00
Rhode Island Legal Services, 56 Pine St., fourth floor, 401-274-2652 Providence RI 02903 | Robert Barge, 401-274-2652 | 1 | 229,273.00
United Cerebral Palsy of Tarrant County, Inc., 1555 Merrimac Circle, Ste. 102, Fort Worth TX 76107 | Monica Prather, 817-332-7171 | 6 | 150,000.00
Education and Outreach Initiative/General Component
ACORN Fair Housing, a project of the American Institute for Social Justice, 739 8th St. S.E., Washington DC 20003 | Carolyn Carr, 202-547-2500 | 3 | 300,000.00
Columbia EnterLight Ministries, CDC, 605 N. Providence Rd., Columbia MO 65203 | Roderick Williams, 573-443-0611 | 7 | 165,168.00
Fair Housing Council of San Gabriel, 1020 N. Fair Oaks Ave., Pasedena CA 91103 | Frances Espinoza, 626-791-0211 | 9 | 35,249.00
Indiana Civil Rights Commission, 100 N. State Ave. Rm N103, Indianapolis IN 46204 | Sandra Leek, 317-232-2614 | 5 | 298,491.00
Kansas Legal Services, 712 South Kansas Ave. #200, Topeka KS 66603 | Roger McCollister, 785-233-2068 | 7 | 81,563.00
Legal Aid Services of Oregon, 700 Southwest Taylor St. #300, Portland OR 97205 | Ira Zarov, 503-224-4094 | 10 | 289,964.00
Minneapolis Urban League, 2000 Plymouth Ave., Minneapolis MN 55411 | Clarence Hightower, 612-302-3100 | 5 | 196,282.00
New Jersey Department of Community Affairs, 101 South Broad Street P.O. Box 806, Trenton NJ 08625-0806 | Keith A. Jones, 609-633-6303 | 2 | 194,861.00
Piedmont Housing Alliance, 515 Park S.T., Charlottesville VA 22902 | Stuart Armstrong, 804-817-2436 | 3 | 138,409.00
Southern Rural Development Initiative, 128 East Hargrett ST. #202, Raleigh NC 27601 | Deborah Warren, 919-829-5900 | 4 | 300,000.00
Fair Housing Organizations Initiative/Establishing New Organizations Component
Housing Opportunities for Excellence, Inc., 18441 N.W. 2nd Ave. #218, Miami FL 33169 | William Thompson, 305-651-4673 | 4 | 400,000.00
Metropolitan Milwaukee Fair Housing Council, Inc., 600 East Mason S.T. #401, Milwaukee WI 53202 | William Tisdale, 414-278-1240 | 5 | 399,252.00
National Fair Housing Alliance, 1212 New York Ave, N.W. #525, Washington DC 20005 | Shanna Smith, 202-898-1661 | 3 | 399,999.00
Private Enforcement Initiative/Fair Housing Partnership Component
Equal Rights Center, 1212 New York Ave., NW, Washington DC 20005 | Veralee Leban, 202-289-5360 | 3 | 212,114.50
Family Housing Advisory Services, Inc., 2416 Lake Street, Omaha NE 68111 | Kevin Biltz-Danler, 402-934-7921 | 7 | 151,009.00
Housing Discrimination Project, Inc., 57 Suffolk St., Holyoke MA 01040 | Erin Kemple, 413-539-9796 | 1 | 250,000.00
Housing Opportunites Made Equal Of Greater Cincinnati, Inc., 2400 Reading Rd. Suite 109, Cincinnati OH 45202-1429 | Karla Irvine, 513-721-4663 | 5 | 249,284.00
Jacksonville Area Legal Aid, Inc., 126 W. Adams Street, Jacksonville FL 32202-3849 | Michael Figgins, 904-356-8371 | 4 | 148,543.58
Miami Valley Fair Housing Center, Inc., 211 S. Main St. Suite 900, Dayton OH 45402 | James McCarthy, 937-223-6035 | 5 | 249,623.00
Northwest Fair Housing Alliance, 1613 West Gardner Ave., Spokane WA 99201 | Florence Brassier, 509-325-2665 | 10 | 250,000.00
San Antonio Fair Housing Council, Inc., 4414 Centerview Drive, Ste. 170, San Antonio TX 78228 | L. Lewis-Miles, 210-733-3247 | 6 | 239,426.00
Private Enforcement Initiative/General Component
Access Living of Metropolitan Chicago, 310 South Peoria ST. #201, Chicago IL 60607 | Rosa Villarreal, 312-226-5900 | 5 | 300,000.00
Central Alabama Fair Housing Center, 207 Montgomery St. #725, Montgomery AL 36104 | Faith Cooper, 334-263-4663 | 4 | 300,000.00
Champlain Valley O.E.O Inc., P.O.B. #1603, Burlington VT 05402 | Tim Searles, 802-862-2771 | 1 | 299,989.00
Fair Housing Center, 2116 Madison Ave, Toledo OH 43624 | Lisa Rice, 419-243-6163 | 5 | 300,000.00
Fair Housing Center of Northern Alabama, 2000 First Ave. North #529, Birmingham AL 35203 | Bobby Wilson, 205-324-0111 | 4 | 300,000.00
Fair Housing Center of South Puget Sound, 625 Commerce, Suite 430, Tacoma WA 98402 | Lauren Walker, 253-572-4343 | 10 | 300,000.00
Fair Housing Continuum, Inc., 840 N. Cocoa Blvd #C, Cocoa FL 32922 | David Baade, 321-633-4551 | 4 | 299,998.77
Fair Housing Council, 835 W Jefferson St. STE100, Louisville KY 40202 | Galen Martin, 502-583-3247 | 4 | 600,000.00
Fair Housing Council of Central California, 2014 Tulare St. #413, Fresno CA 93721 | Steven Elberg, 559-498-6174 | 9 | 300,000.00
Fair Housing Council of Oregon, 310 Southwest 4th Ave. 430, Portland OR 97204 | Cynthia Ingebretson, 503-223-3542 | 10 | 300,000.00
Family Housing Advisory Services, Inc., 2416 Lake St., Omaha NE 68111 | Kevin Danler, 402-934-7921 | 7 | 300,000.00
Greater New Orleans Fair Housing Action Center, Inc., 938 Lafayette St. 413, New Orleans LA 70113 | Stacy Seicshnaydre, 504-596-2100 | 6 | 300,000.00
Inland Fair Housing and Mediation Board, 1005 Begonia Avenue, Ontario CA 91762 | Betty Davidow, 909-984-2254 | 9 | 258,336.00
Intermountain Fair Housing Council, 310 N. 5th S.T., Boise ID 83702 | Richard Mabbutt, 208-383-0695 | 10 | 298,970.00
John Marshall Law School, 315 South Plymouth Court, Chicago IL 60604-3907 | Robert Johnston, 312-987-1429 | 5 | 118,966.00
Legal Aid of Western Missouri, 1005 Grand Blvd Suite 600, Kansas City MO 64106 | Richard Halliburton, 816-474-6750 | 7 | 252,937.92
Legal Services of Eastern Michigan, 547 South Saginaw, Flint MI 48502 | Edward Hoort, 810-234-2621 | 5 | 127,500.00
Lexington Fair Housing Council, Inc., 205 East Reynolds Rd. #E, Lexington KY 40517 | Teresa Isaac, 859-971-8067 | 4 | 299,999.77
Mobile Fair Housing Center, Inc., 951 Government S.T. 100, Mobile AL 36633-1351 | Tracy Cherry, 334-433-8070 | 4 | 299,946.00
Montana Fair Housing, 904 A Kensington Ave., Missoula MT 59801 | Susan Fifield, 406-544-2611 | 8 | 300,000.00
North Dakota Fair Housing Council, Inc., 533 Airport Rd. Suite C, Bismarck ND 58504 | Amy Nelson, 701-221-2530 | 8 | 299,999.00
North Delta Mississippi Enterprise Community Development Corp., P.O. Box 330, Sardis MS 38666 | Robert Avant, 662-382-7651 | 4 | 298,100.00
Project Sentinel, 430 Sherman Ave. #308, Palo Alto CA 94306 | Ann Marquart, 415-321-6291 | 9 | 596,633.00
San Antonio Fair Housing Council, Inc., 4414 Cenerview Suite 170, San Antonio TX 78228 | Lewis Miles, 210-733-3247 | 6 | 299,452.00
South Suburban Housing Center, 18220 Harwood Ave. #1, Homewood IL 60430 | John Petruszak, 708-957-4674 | 5 | 300,000.00
Southern Minnesota Regional Legal Services, Inc., 700 Minnesota Building, 46 E. Fourth Street, St. Paul MN 55101 | Bruce A. Beneke, 651-228-9823 | 5 | 300,000.00
Tennessee Fair Housing Council, Inc., 719 Thompson Lane #200, Nashville TN 37204 | Tracey McCartney, 615-383-6155 | 4 | 299,921.00
Truckee Meadows Fair Housing, 654 Tahoe S.T. P.O.B 3935, Reno NV 89505-3935 | Katherine Copeland, 775-324-0990 | 9 | 300,000.00
National Housing Discrimination Audit Project
Urban Institute, 2100 M Street, NW., Washington DC 20037 | Margery Turner, 435-797-1529 | 3 | 6,000,000.00

FY 2000 Fair Housing Initiatives Program Award Out of 1999 Funding
Applicant name | Contact person | Region | Award amount
National Education and Outreach Initiative—Community Tensions Component
Leadership Conference Education Fund, 1629 K Street, Suite 1010, Washington DC 20006 | Karen Lawson (202) 466-3434 | 3 | $1,000,000.00

[FR Doc. 01-28114 Filed 11-8-01; 8:45 am]

BILLING CODE 421P-28-P